DEPARTMENT OF STATE

[Public Notice 5042]

Bureau of Educational and Cultural Affairs; English Language Fellow Program for Academic Year 2006-2007

ACTION: This announcement amends the Request for Grant Proposals (RFGP) in support of Funding Opportunity Number ECA/A/L-06-01, “English Language Fellow Program for Academic Year 2006-2007” published in the Federal Register on March 10, 2005.

SUMMARY: Pending the availability of FY-2006 funds, the office anticipates revisions to the original program design as follows:

(1) Under Award Information, Section II: Approximate total funding available may increase from $6,000,000 to $6,800,000. Proposals should be based on a level of $6.8 million. The Bureau still intends to make one award under this competition.

(2) Stipend levels as outlined in the Proposal Objectives, Goals and Implementation (POGI) document for this RFGP have been increased as follows:

• Fellows: from $18,500 to $25,000

• Senior Fellows: from $25,500 to $35,000

(3) All other terms and conditions contained in the original RFGP published on March 10, 2005 remain the same.

Additional Information: Interested U.S. organizations should contact Catherine Williamson at (202) 619-5878 for additional information.

The English Language Fellow Program was announced in the Federal Register, Volume 70, Number 46, on March 10, 2005.

Dated: April 4, 2005.
C. Miller Crouch,
Principal Deputy Assistant Secretary, Bureau of Educational and Cultural Affairs, Department of State.

[FR Doc. 05-7045 Filed 4-6-05; 8:45 am]

BILLING CODE 4710-05-P